FEDERAL COMMUNICATIONS COMMISSION

Sunshine Act Meeting; FCC Announces Further Details for the First Post-Superstorm Sandy Field Hearing, Tuesday, February 5, 2013

AGENCY: Federal Communications Commission.

ACTION: Sunshine notice.

SUMMARY: In the wake of Superstorm Sandy, Federal Communications Chairman Julius Genachowski announced plans to convene a series of field hearings to examine challenges to the nation's communications networks during natural disasters and in other times of crisis.

The first hearing will facilitate a wider national dialogue about the resiliency of communications networks by focusing on the impact of Superstorm Sandy, and help inform recommendations and actions to strengthen wired and wireless networks in the face of such large-scale emergencies.

DATES: Tuesday, February 5, 2013 starting at 9 a.m.-1 p.m. (Morning Session); 2:30 p.m.-6:30 p.m. (Afternoon Session).

ADDRESSES: Alexander Hamilton U.S. Customs House, 1 Bowling Green, Manhattan, New York, NY 10004 (Morning Session); Stevens Institute of Technology, Babbio Center, River Street, Hoboken, NJ 07030 (Afternoon Session).

FOR FURTHER INFORMATION CONTACT: Gene Fullano, Federal Communications Commission, Public Safety and Homeland Security Bureau, at (202)—418-0492 or genaro.fullano@fcc.gov.

SUPPLEMENTARY INFORMATION: The FCC will attempt to accommodate as many attendees as possible; however, admittance will be limited to seating availability. The Commission will provide audio and/or video coverage of the meeting over the Internet from the FCC's Web page at http://www.fcc.gov/live. Open captioning will be provided for this event. Other reasonable accommodations for people with disabilities are available upon request. Requests for such accommodations should be submitted via email to fcc504@fcc.gov or by calling the Consumer & Governmental Affairs Bureau at (202) 418-0530 (voice), (202) 418-0432 (tty). Such requests should include a detailed description of the accommodation needed. In addition, please include a way the FCC can contact you if it needs more information. Please allow at least five days' advance notice; last-minute requests will be accepted, but may be impossible to fill.

To the extent it applies, the Commission is waiving the sunshine period prohibition contained in § 1.1203 of the Commission's rules, 47 CFR 1.1203. The sunshine period prohibition will not be deemed to be triggered by the release of this Sunshine Agenda.

We also take this opportunity to remind the public that presentations to decision-making personnel—including those that address network reliability and resiliency in the wake of Superstorm Sandy—that go to the merits or outcome of the Commission's pending permit-but-disclose proceeding regarding network reliability and resiliency, see Reliability and Continuity of Communications Networks, Including Broadband

Technologies, Notice of Inquiry, 26 FCC Rcd 5614 (2011), must comply with the Commission's ex parte rules, see, e.g., 47 CFR 1.1200 et seq.

Federal Communications Commission.
Marlene H. Dortch,
Secretary.

[FR Doc. 2013-02476 Filed 1-31-13; 4:15 pm]

BILLING CODE 6712-01-P